ENVIRONMENTAL PROTECTION AGENCY

[FRL-6943-4]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held February 21-23, 2001 at the Hotel Washington, Washington, DC. The CHPAC was created to advise the Environmental Protection Agency in the development of regulations, guidance and policies to address children's environmental health.

DATES: Wednesday, February 21, 2001, Work Group meetings only; plenary sessions Thursday, February 22 and Friday, February 23, 2001.

ADDRESSES: Hotel Washington, 515 15th Street, NW, Washington, DC.

FOR FURTHER INFORMATION CONTACT: Contact Paula R. Goode, Office of Children's Health Protection, USEPA, MC 1107A, 1200 Pennsylvania Avenue, NW., Washington, DC 20460, (202) 564-2702.

SUPPLEMENTARY INFORMATION:

Agenda Items

The meetings of the CHPAC are open to the public. The Science and Research Work Group will meet from 9:30 a.m. to 5:00 p.m. and the 21st Century Work Group will meet from 1:00 p.m. to 4:30 p.m. on Wednesday, February 21, 2001. The plenary CHPAC will meet on Thursday, February 22 from 9:00 a.m. to 5:30 p.m., with a public comment period at 5:00 p.m., and on Friday, February 23 from 9:00 a.m. to 12:30 p.m.

The plenary session will open with introductions and a review of the agenda and objectives for the meeting. Agenda items include highlights of the Office of Children's Health Protection (OCHP) activities and reports from the Work Groups, speakers on States' children's environmental health activities, and a status report on the longitudinal cohort study on children (as found in the Child Health Act of 2000).

Dated: February 1, 2001.
Paula R. Goode,
Designated Federal Officer, Children's Health Protection Advisory Committee.

[FR Doc. 01-3283 Filed 2-7-01; 8:45 am]

BILLING CODE 6560-50-P